DEPARTMENT OF LABOR

Employment and Training Administration

[TA-W-52,725]

Fishing Vessel (F/V) Bad Betty, Homer, AK; Dismissal of Application for Reconsideration

Pursuant to 29 CFR 90.18(C) an application for administrative reconsideration was filed with the Director of the Division of Trade Adjustment Assistance for workers at Fishing Vessel (F/V) Bad Betty, Homer, Alaska. The application contained no new substantial information which would bear importantly on the Department's determination. Therefore, dismissal of the application was issued.

TA-W-52,725; Fishing Vessel (F/V) Bad Betty, Homer, Alaska (December 4, 2003)

Signed at Washington, DC this 18th day of December 2003.
Timothy Sullivan,
Director, Division of Trade Adjustment Assistance.

[FR Doc. 03-31860 Filed 12-24-03; 8:45 am]

BILLING CODE 4510-30-P